DEPARTMENT OF COMMERCE

International Trade Administration

[A-518-001]

Melamine From Qatar: Final Negative Determination of Sales at Less Than Fair Value and Final Negative Determination of Critical Circumstances

AGENCY: Enforcement and Compliance, International Trade Administration, U.S. Department of Commerce.

SUMMARY: The U.S. Department of Commerce (Commerce) determines that melamine from Qatar is not being, or is not likely to be, sold in the United States at less than fair value (LTFV). The period of investigation (POI) is January 1, 2023, through December 31, 2023.

DATES: Applicable December 9, 2024.

FOR FURTHER INFORMATION CONTACT: Andrew Hart, AD/CVD Operations, Office II, Enforcement and Compliance, International Trade Administration, U.S. Department of Commerce, 1401 Constitution Avenue NW, Washington, DC 20230; telephone: (202) 482-1058.

SUPPLEMENTARY INFORMATION:

Background

On September 24, 2024, Commerce published in the Federal Register its preliminary negative determination in the LTFV investigation of melamine from Qatar and invited interested parties to comment on the Preliminary Determination.¹

¹ See Melamine from Qatar: Preliminary Negative Determination of Sales at Less Than Fair Value, 89 FR 77824 (September 24, 2024) (Preliminary Determination), and accompanying Preliminary Decision Memorandum.

A summary of the events that occurred since Commerce published its Preliminary Determination, as well as a full discussion of the issues raised by parties for this final determination, may be found in the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

² See Memorandum, “Issues and Decision Memorandum for the Final Negative Determination in the Less-Than-Fair-Value Investigation of Melamine from Qatar,” dated concurrently with, and hereby adopted by, this notice (Issues and Decision Memorandum).

Final Negative Determination of Critical Circumstances

We continue to find that critical circumstances do not exist for imports of melamine from Qatar for all producers and exporters pursuant to section 733(e)(1)(A) of the Tariff Act of 1930, as amended (the Act) and 19 CFR 351.206. For a discussion and analysis of comments regarding Commerce's critical circumstances analysis, see the Issues and Decision Memorandum.

Scope of the Investigation

The product covered by this investigation is melamine from Qatar. For a complete description of the scope of this investigation, see Appendix I to this notice.

Scope Comments

We received no comments from interested parties on the scope of the investigation as it appeared in the Preliminary Determination. Therefore, we made no changes to the scope of the investigation.

Verification

As provided in section 782(i)(1) of the Act, in October 2024, we verified the sales and cost information submitted by QMC/Muntajat ³ for use in our final determination. We used standard verification procedures, including an examination of relevant sales and accounting records, and original source documents provided by QMC/Muntajat.⁴

³ As discussed in the Preliminary Determination, Commerce preliminarily collapsed the following companies and treated them as a single entity: Qatar Melamine Company (QMC); Qatar Chemical and Petrochemical marketing and Distribution Company (Muntajat) Q.P.J.S.C. (Muntajat) (collectively QMC/Muntajat); and Qatar Fertiliser Company P.S.C. (QAFCO). Commerce continues to collapse these companies and treat them as a single entity for the final determination.

⁴ See Memoranda, “Verification of the Sales Response of Qatar Melamine Company and Qatar Chemical and Petrochemical Marketing and Distribution Company Q.P.J.S.C. in the Antidumping Duty Investigation of Melamine from Qatar,” dated October 17, 2024 (Sales Verification Report); and “Verification of the Cost Responses of Qatar Melamine Company in the Antidumping Duty Investigation of Melamine from Qatar,” dated November 1, 2024 (Cost Verification Report).

Analysis of Comments Received

All issues raised in the case and rebuttal briefs submitted by interested parties in this investigation are addressed in the Issues and Decision Memorandum. A list of the issues addressed in the Issues and Decision Memorandum is attached as Appendix II to this notice.

Changes Since the Preliminary Determination

We made certain changes to the margin calculation for QMC/Muntajat, since the Preliminary Determination.⁵ For a discussion of these changes, see the Issues and Decision Memorandum.

⁵ See Memorandum, “Analysis for the Final Determination for Qatar Melamine Company and Qatar Chemical and Petrochemical Marketing and Distribution Company Q.P.J.S.C.,” dated concurrently with this notice.

Final Determination

Commerce determines that the following estimated weighted-average dumping margins exist for the period, January 1, 2023, through December 31, 2023:

Exporter/producer | Weighted-average dumping margin (percent) | Cash deposit rate (adjusted for subsidy offset(s)) (percent)
Qatar Melamine Company; Qatar Chemical and Petrochemical Marketing and Distribution Company (Muntajat) Q.P.J.S.C.; Qatar Fertiliser Company (P.S.C.) | 0.00 | Not Applicable.

Commerce has not calculated an estimated weighted-average dumping margin for all other producers and exporters pursuant to sections 735(c)(1)(B) and (c)(5) of the Act, because it has not made a final affirmative determination of sales at LTFV.

Disclosure

Commerce intends to disclose the calculations performed in connection with this final determination to interested parties within five days of any public announcement or, if there is no public announcement, within five days of the publication of the notice in the Federal Register, in accordance with 19 CFR 351.224(b).

Suspension of Liquidation

In the Preliminary Determination, the estimated weighted-average dumping margin for QMC/Muntajat was de minimis and, therefore, we did not suspend liquidation of entries of melamine from Qatar. Because Commerce has made a final negative determination of sales at LTFV with regard to the subject merchandise, Commerce will not direct U.S. Customs and Border Protection to suspend liquidation or to require cash deposit of estimated antidumping duties for entries of melamine from Qatar.

U.S. International Trade Commission Notification

In accordance with section 735(d) of the Act, Commerce will notify the U.S. international Trade Commission of its final negative determination of sales at LTFV. As our final determination is negative, this proceeding is terminated in accordance with section 735(c)(2) of the Act.

Administrative Protective Order

This notice serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

This determination and this notice are issued and published in accordance with sections 735(d) and 777(i) of the Act, and 19 CFR 351.210(c).

Dated: December 2, 2024.
Abdelali Elouaradia,
Deputy Assistant Secretary for Enforcement and Compliance.

Appendix I

Scope of the Investigation

The merchandise subject to this investigation is melamine (Chemical Abstracts Service (CAS) registry number 108-78-01, molecular formula C3 H6 N6). Melamine is also known as 2,4,6-triamino-s-triazine; 1,3,5-Triazine-2,4,6- triamine; Cyanurotriamide; Cyanurotriamine; Cyanuramide; and by various brand names. Melamine is a crystalline powder or granule. All melamine is covered by the scope of this investigation irrespective of purity, particle size, or physical form. Melamine that has been blended with other products is included within this scope when such blends include constituent parts that have been intermingled, but that have not been chemically reacted with each other to produce a different product. For such blends, only the melamine component of the mixture is covered by the scope of this investigation. Melamine that is otherwise subject to this investigation is not excluded when commingled with melamine from sources not subject to this investigation. Only the subject component of such commingled products is covered by the scope of this investigation.

The subject merchandise is provided for in subheading 2933.61.0000 of the Harmonized Tariff Schedule of the United States (HTSUS). Although the HTSUS subheading and CAS registry number are provided for convenience and customs purposes, the written description of the scope is dispositive.

Appendix II

List of Topics Discussed in the Issues and Decision Memorandum

I. Summary

II. Background

III. Changes Since the Preliminary Determination

IV. Discussion of the Issues

Comment 1: Cost-Based Particular Market Situation (PMS)

Comment 2: Comparison Methodology

Comment 3: Critical Circumstances

Comment 4: Third Country Comparison Market

Comment 5: Collapsing

Comment 6: Major Input/Transaction Disregarded Rule

V. Recommendation

[FR Doc. 2024-28796 Filed 12-6-24; 8:45 am]

BILLING CODE 3510-DS-P